DEPARTMENT OF DEFENSE

Department of the Army; Corps of Engineers

Chief of Engineers Environmental Advisory Board

AGENCY: Department of the Army, U.S. Army Corps of Engineers DoD.

ACTION: Notice of open meeting.

SUMMARY: In accordance with Section 10(a)(2) of the Federal Advisory Committee Act (Pub. L. 92-463), announcement is made of the following committee meeting:

Name of Committee: Chief of Engineers Environmental Advisory Board (EAB).

Topic: The EAB will discuss national considerations related to ecosystem restoration through integrated water resources management.

Date of Meeting: July 18, 2007.

Place: Hotel Palomar, 2121 P Street, NW., Washington, DC.

Time: 9 a.m. to 12 p.m.

Thirty minutes will be set aside for public comment. Members of the public who wish to speak must register prior to the start of the meeting. Registration will begin at 8:30. Statements are limited to 3 minutes.

FOR FURTHER INFORMATION CONTACT: Ms. Rennie Sherman, Executive Secretary, rennie.h.sherman@usace.army.mil (202) 761-7771.

SUPPLEMENTARY INFORMATION: The EAB advises the Chief of Engineers by providing expert and independent advice on environmental issues facing the Corps of Engineers. The public meeting will include presentations by the EAB as well as by Corps staff. The meeting is open to the public, and public comment is tentatively scheduled for 30 minutes beginning at 11:15. Written statements may be submitted prior to the meeting or up to 30 days after the meeting to Ms. Sherman at rennie.h.sherman@usace.army.mil.

Brenda S. Bowen,
Army Federal Register Liaison Officer.

[FR Doc. 07-3152 Filed 6-26-07; 8:45 am]

BILLING CODE 3710-92-M